COMMITTEE FOR PURCHASE FROM PEOPLE WHO ARE BLIND OR SEVERELY DISABLED

41 CFR Parts 51-1, 51-2, 51-3, 51-4, and 51-6

RIN 3037-AA07

AbilityOne Program

AGENCY: Committee for Purchase From People Who Are Blind or Severely Disabled.

ACTION: Final rule; change to program name.

SUMMARY: The Committee for Purchase From People Who Are Blind or Severely Disabled (the Committee) has deliberated and voted to change the name of the JWOD Program to the AbilityOne Program. The name of the program is being changed to AbilityOne to give a stronger, more unified identity to the program and to show a connection between the program name and the abilities of those who are blind or have other severe disabilities.

DATES: Effective Date: November 27, 2006.

ADDRESSES: The Committee office is located at Jefferson Plaza 2, Suite 10800, 1421 Jefferson Davis Highway, Arlington, VA 22202-3259.

FOR MORE INFORMATION CONTACT: Kimberly Zeich, Director, JWOD Business Development, by telephone (703) 603-7740, or by facsimile at (703) 603-0030, or by mail at the Committee for Purchase From People Who Are Blind or Severely Disabled, 1421 Jefferson Davis Hwy, Suite 10800, Arlington, VA 22202-3259.

SUPPLEMENTARY INFORMATION: The Committee's statutory authority includes making rules and regulations necessary to carry out the Javits-Wagner-O'Day (JWOD) Act (41 U.S.C. 46-48c). The program implementing the Act provides employment opportunities for people who are blind or have other severe disabilities in the manufacture and delivery of products and services to the Federal Government. The Committee has designated two Central Nonprofit Agencies (CNAs), National Industries for the Blind (NIB) and NISH (serving people with a wide range of disabilities) to provide technical and financial assistance to qualified nonprofit agencies nationwide. These qualified nonprofit agencies employ the blind or severely disabled in the fulfillment of product and service requirements deemed suitable by the Committee and placed on its Procurement List.

In the 1980s, the Committee informally adopted the “JWOD” acronym to serve as a program and umbrella name, and subsequently made changes to its regulations referencing the JWOD Program. However, the Committee has long recognized that confusion regarding the JWOD Program and the roles and identities of the governing and participating organizations continues to exist among Federal customers and other key audiences, including advocates for people with disabilities, the business community, elected representatives and the workforce. The Committee believes that a more unified program identity, as part of a strategic communications plan, would be more effective in communicating the program's mission and benefits to many diverse stakeholders. The Committee intends to establish a national program identity or affiliation that participating nonprofit agencies can use in conjunction with their local identities and existing name recognition.

Working closely with its CNAs, the Committee conducted a strategic program identity exploration, to include name research with several stakeholder groups. The study found that the JWOD acronym is not a descriptive or compelling name, and it does not clearly communicate information about the program, its workforce or its benefits. The JWOD acronym had relatively high recognition among Government employees who make small purchases with purchase cards, but not as high as the recognition of SKILCRAFT®, the registered trademark licensed and managed by National Industries for the Blind. The SKILCRAFT® name is used on most of the common, retail-type items in the JWOD Program and is not affected by this rulemaking. The JWOD name did not have high levels of recognition among Government program managers, or audiences outside of the Executive Branch such as Congress, the disability community or the public. It was further noted that the JWOD Act is scheduled to be routinely codified in the U.S. Code, which would result in a repeal of the underlying legislation and which would further distance the acronym “JWOD” from the employment program that will continue.

The Committee considered the strengths and weaknesses of the current program name, the estimated benefits and costs of a name change, and the risk mitigation strategies that would minimize both the potential for loss of current program familiarity and the potential financial burden on participating nonprofit agencies that currently use the JWOD name on their business materials. It also looked at the availability of appropriate naming alternatives from an effective communication and trademark perspective. After an informed and deliberative process, and with full participation, a majority of Committee members voted in favor of changing the JWOD Program name.

In deciding to change the JWOD name, the Committee recognized that success in the 21st century requires an improved ability to communicate the employment mission and the customer value delivered by the program. While the enabling Act remains critical to success, changes in the competitive and Federal procurement environment require the Committee to build a program brand identity beyond that legislation in order to fulfill its mission. The Committee sought a new program name that would best reflect the workforce comprised of people who are blind or who have other severe disabilities; a name that would sound more official or professional than “JWOD,” that would align with the program's value proposition and that would be expansive enough to cover all participating organizations, among other criteria. In September 2006, the Committee selected “AbilityOne” to be the future program name. AbilityOne has a much closer linkage to the program's workforce and capabilities, and alludes to the intersection of all program participants into one umbrella organization and one total solution.

In order to ensure that all program stakeholders who are familiar with the JWOD name are able to recognize and transfer their support to the new program name, the Committee will continue to use the JWOD acronym as a part of the program name for a transition period of at least 18 months. The transition period will enable participating organizations to deplete business materials that contain the JWOD name and to begin using the new name voluntarily when they refresh their materials as part of the normal supply cycle.

Executive Order 12866: This agency has made the determination that this rule is not significant for the purposes of EO 12866.

Administrative Procedure Act: The Committee finds under 5 U.S.C. 553(b)(3)(A) that the statute does not apply to interpretive rules, general statements of policy, or rules of agency organization, procedure, or practice. This final rule simply changes the name of the program from the JWOD Program to the AbilityOne Program. Further, pursuant to 5 U.S.C. 553 (b)(3)(A), this rule of agency organization, procedure and practice is not subject to the requirement to provide prior notice and an opportunity for public comment. The Committee also finds that the 30-day delay in effectiveness, required under 5 U.S.C. 553(d), is inapplicable because this rule is not a substantive rule.

Regulatory Flexibility Act: Because notice and opportunity for comment are not required pursuant to 5 U.S.C. 553 or any other law, the analytical requirements of the Regulatory Flexibility Act (5 U.S.C. 601 et seq.) are inapplicable. Therefore, a regulatory flexibility analysis is not required and has not been prepared.

List of Subjects

41 CFR Part 51-1

Government procurement, Individuals with disabilities.

41 CFR Part 51-2

Government procurement, Individuals with disabilities, Organization and functions (Government agencies).

41 CFR Part 51-3

Government procurement, Individuals with disabilities.

41 CFR Part 51-4

Government procurement, Individuals with disabilities, Reporting and recordkeeping requirements.

41 CFR Part 51-6

Government procurement, Individuals with disabilities.

For the reasons set out in the preamble, Parts 51-1, 51-2, 51-3, 51-4, 51-6 of Title 41, Chapter 51 of the Code of Federal Regulations are amended as follows:

PART 51-1—GENERAL

1. The authority citation for part 51-1 continues to read as follows:

Authority: 41 U.S.C. 46-48c

§ 51-1.3 [Amended]

2. In § 51-1.3, revise the definition heading “JWOD Program” to read “AbilityOne Program”.

PART 51-2—COMMITTEE FOR PURCHASE FROM PEOPLE WHO ARE BLIND OR SEVERELY DISABLED

3. The authority citation for part 51-2 continues to read as follows:

Authority: 41 U.S.C. 46-48c

§ 51-2.2 [Amended]

4. Remove the words “JWOD Program” and add in their place the words “AbilityOne Program” wherever they occur in the following places:

a. Section 51-2.2(e); and

b. Section 51-2.2(f).

PART 51-3—CENTRAL NONPROFIT AGENCIES

5. The authority citation for part 51-3 continues to read as follows:

Authority: 41 U.S.C. 46-48c

§ 51-3.2 [Amended]

6. Remove the words “JWOD Program” from the heading of § 51-3.2 and add in their place the words “AbilityOne Program”.

§ 51-3.5 [Amended]

7. In § 51-3.5, remove the words “JWOD Program” and add in their place “AbilityOne Program”.

PART 51-4—NONPROFIT AGENCIES

8. The authority citation for part 51-4 continues to read as follows:

Authority: 41 U.S.C. 46-48c

§ 51-4.1 [Amended]

9. In § 54-4.1, remove the words “JWOD Program” and add in their place the words “AbilityOne Program”.

§ 51-4.3 [Amended]

10. In § 51-4.3, remove the words “JWOD Program” and add in their place the words “AbilityOne Program” in paragraphs (b) introductory text, (b)(9), and (c) introductory text.

PART 51-6—PROCUREMENT PROCEDURES

11. The authority citation for part 51-6 continues to read as follows:

Authority: 41 U.S.C. 46-48c

§ 51-6.3 [Amended]

12. In § 51-6.3(b), remove the words “JWOD Program” and add in their place the words “AbilityOne Program”.

§ 51-6.8 [Amended]

13. In § 51-6.8(e), remove the words “JWOD Program” and add in their place the words “AbilityOne Program”.

Dated: November 20, 2006.
Leon A. Wilson, Jr.,
Executive Director.

[FR Doc. E6-19971 Filed 11-24-06; 8:45 am]

BILLING CODE 6353-01-P